DEPARTMENT OF AGRICULTURE

Grain Inspection, Packers and Stockyards Administration

[04-04-S]

Designation for Georgia, Cedar Rapids (IA), Montana, and Lake Village (IN) Areas

AGENCY: Grain Inspection, Packers and Stockyards Administration, USDA.

ACTION: Notice.

SUMMARY: Grain Inspection, Packers and Stockyards Administration (GIPSA) announces designation of the following organizations to provide official services under the United States Grain Standards Act, as amended (Act): Georgia Department of Agriculture (Georgia); Mid-Iowa Grain Inspection, Inc. (Mid-Iowa); Montana Department of Agriculture (Montana); and Schneider Inspection Service, Inc. (Schneider).

DATES: Effective Date: July 1, 2005.

ADDRESSES: USDA, GIPSA, Janet M. Hart, Chief, Review Branch, Compliance Division, STOP 3604, Room 1647-S, 1400 Independence Avenue, SW., Washington, DC 20250-3604.

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the December 1, 2004 Federal Register (69 FR 69884), GIPSA asked persons interested in providing official services in the geographic areas assigned to the official agencies named above to submit an application for designation. Applications were due by January 3, 2005.

Georgia, Mid-Iowa, Montana, and Schneider were the sole applicants for designation to provide official services in the entire area currently assigned to them, so GIPSA did not ask for additional comments on them.

GIPSA evaluated all available information regarding the designation criteria in Section 7(f)(l)(A) of the Act and, according to Section 7(f)(l)(B), determined that Georgia, Mid-Iowa, Montana, and Schneider are able to provide official services in the geographic areas specified in the December 1, 2004, Federal Register, for which they applied. These designation actions to provide official inspection services are effective July 1, 2005, and terminate June 30, 2008, for Georgia, Mid-Iowa, and Montana. Schneider is designated for 12 months only, effective July 1, 2005, and terminating June 30, 2006, to allow GIPSA to further evaluate their program. Interested persons may obtain official services by calling the telephone numbers listed below.

Official agency | Headquarters location and telephone | Designation start-end
Georgia | Atlanta, GA; 229-386-3130 Additional location: Tifton, GA | 7/1/2005-6/30/2008
Mid-Iowa | Cedar Rapids, IA; 319-363-0239 Additional location: Clayton, IA | 7/1/2005-6/30/2008
Montana | Helena, MT; 406-444-3144 Additional location: Great Falls, MT | 7/1/2005-6/30/2008
Schneider | Lake Village, IN; 219-992-2306 | 7/1/2005-6/30/2006

Authority: Pub. L. 94-582, 90 Stat. 2867, as amended (7 U.S.C. 71 et seq.).

David R. Shipman,
Acting Administrator, Grain Inspection, Packers and Stockyards Administration.

[FR Doc. 05-10739 Filed 5-31-05; 8:45 am]

BILLING CODE 3410-EN-P